DEPARTMENT OF HOMELAND SECURITY

Coast Guard

33 CFR Part 117

[Docket No. USCG-2018-0129]

Drawbridge Operation Regulation; Snohomish River and Steamboat Slough, Everett and Marysville, WA

AGENCY: Coast Guard, DHS.

ACTION: Notice of deviation from drawbridge regulation.

SUMMARY: The Coast Guard has issued a temporary deviation from the operating schedule that governs the SR 529 highway bridges, north and south bound, across the Snohomish River, mile 3.6 near Everett, WA, and the SR 529 highway bridges, north and south bound, across Steamboat Slough, mile 1.1 and 1.2, near Marysville, WA. The deviation is necessary to accommodate the Everett Half Marathon run event. This deviation allows the bridges to remain in the closed-to-navigation position during the marathon to allow safe movement of event participants.

DATES: This deviation is effective from 7:30 a.m. to 11 a.m. on April 8, 2018.

ADDRESSES: The docket for this deviation, USCG-2018-0129 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Washington State Department of Transportation, the bridge owner, has requested that the SR 529 highway bridges, north bound and south bound, across the Snohomish River and Steamboat Slough remain in the closed-to-navigation position. This request is to facilitate safe, uninterrupted roadway passage of participants of the Everett Half Marathon. The SR 529 highway bridges across the Snohomish River, at mile 3.6, provide 37 feet of vertical clearance above mean high water elevation while in the closed-to-navigation position; and these bridges operate in accordance with 33 CFR 117.1059(c). The SR 529 highway bridges across Steamboat Slough, at mile 1.1 and 1.2, provide 10 feet of vertical clearance above mean high water elevation in the closed-to-navigation position; and these bridges operate in accordance with 33 CFR 117.1059(g).

The SR 529 bridges crossing the Snohomish River and Steamboat Slough are authorized to remain in the closed-to navigation position, and need not open for maritime traffic from 7:30 a.m. to 11 a.m. on April 8, 2018. The bridges shall operate in accordance to 33 CFR 117.1059 at all other times. Vessels able to pass under the subject bridges in the closed-to-navigation position may do so at any time, and these bridges will be required to open, if needed, for vessels engaged in emergency response during the closure period.

Waterway usage on this part of the Snohomish River and Steamboat Slough includes vessels ranging from commercial tug and barge to small pleasure craft. An alternate route for vessels to pass is available through Ebey Slough and Union Slough near the entrance of Steamboat Slough at high tide. A request for comment with any objections to this deviation was advertised in the Local Notice to Mariners. We did not receive any comments or objections. The Coast Guard will also inform the users of the waterways through our Local and Broadcast Notices to Mariners of the change in operating schedule for the bridges so that vessels can arrange their transits to minimize any impact caused by the temporary deviation.

In accordance with 33 CFR 117.35(e), the drawbridges must return to their regular operating schedule immediately at the end of the effective period of this temporary deviation. This deviation from the operating regulations is authorized under 33 CFR 117.35.

Dated: February 27, 2018.
Steven M. Fischer,
Bridge Administrator, Thirteenth Coast Guard District.

[FR Doc. 2018-04435 Filed 3-5-18; 8:45 am]

BILLING CODE 9110-04-P